DEPARTMENT OF STATE

[Public Notice: 8868]

Advisory Committee on International Postal and Delivery Services

AGENCY: Department of State.

ACTION: Notice; FACA committee meeting announcement.

Summary: As required by the Federal Advisory Committee Act, Public Law 92-463, the Department of State gives notice of a meeting of the Advisory Committee on International Postal and Delivery Services. This Committee has been formed in fulfillment of the provisions of the 2006 Postal Accountability and Enhancement Act (Pub. L. 109-435) and in accordance with the Federal Advisory Committee Act.

Date and Time: The meeting will be held on Monday, September 29, from 9 a.m. to 4:30 p.m.

Location: The American Institute of Architects, Board Room, 1735 New York Avenue NW., Washington, DC 20006.

Public input: Any member of the public interested in providing public input to the meeting should contact Ms. Shereece Robinson, whose contact information is listed under for further information section of this notice. Each individual providing oral input is requested to limit his or her comments to five minutes. Requests to be added to the speaker list must be received in writing (letter, email or fax) prior to the close of business on Monday, September 22, 2014; written comments from members of the public for distribution at this meeting must reach Ms. Robinson by letter, email or fax by this same date. A member of the public requesting reasonable accommodation should make the request to Ms. Robinson by that same date.

Meeting agenda: The agenda of the meeting will include: An update on developments in and upcoming meetings of the Universal Postal Union (UPU) and an examination of issues arising from discussions that are underway in the UPU and elsewhere on ways to increase the volume of e-commerce shipments in international mail. Among the issues to be considered are current constraints on the use of the mail for international merchandise shipment and possible competiveness concerns arising from the customs treatment of mail and other aspects of the prevailing international postal regime. A full agenda and meeting documents will be posted on the Committee Web site at www.state.gov/p/io/ipp/mtgs/index.htm as they become available.

For further information, please contact Ms. Shereece Robinson of the Office of Specialized and Technical Agencies (IO/STA), Bureau of International Organization Affairs, U.S. Department of State, at tel. (202) 647-1044, FAX (202) 647-8902, by email at RobinsonSA2@state.gov or by mail at IO/STA, Room 5333 HST; U.S. Department of State; Washington, DC 20520-6319.

Dated: September 5, 2014.
Joseph P. Murphy,
Designated Federal Officer, Advisory Committee on International Postal and Delivery Services, Office of Specialized and Technical Agencies, Bureau of International Organization Affairs, Department of State.

[FR Doc. 2014-21806 Filed 9-11-14; 8:45 am]

BILLING CODE 4710-19-P